FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 7, 2015.

A. Federal Reserve Bank of Minneapolis (Jacquelyn K. Brunmeier, Assistant Vice President) 90 Hennepin Avenue, Minneapolis, Minnesota 55480-0291:

1. Lee H. Pell, Saint Peter, Minnesota, individually; and with Shari L. Brostrom, Kasota, Minnesota; W. Benjamin Pell, Saint Peter, Minnesota; James Brostrom, Kasota, Minnesota; Matthew Brostrom, Saint Peter, Minnesota; Pell, Inc., Saint Peter, Minnesota; Brittany A. Pell, Saint Peter, Minnesota; Joanna L. Pell; Saint Peter, Minnesota; Kristina L. Pell, Minneapolis, Minnesota; the Sandra S. Pell Irrevocable Trust, Saint Peter, Minnesota, all as co-trustees, and Paul H. Tanis, Jr., Saint Peter, Minnesota; Linda M. Pell, Saint Peter, Minnesota; Lola Grace Pell, Saint Peter, Minnesota; Samantha T. Pell, Saint Peter, Minnesota; Sandra S. Pell, Saint Peter, Minnesota; and Thomas C. Pell, Saint Peter, Minnesota, as trustees, as a group acting in concert, to retain voting shares of BanCommunity Service Corporation, and thereby indirectly retain voting shares of First National Bank Minnesota, both in Saint Peter, Minnesota.

B. Federal Reserve Bank of Dallas (Robert L. Triplett III, Senior Vice President) 2200 North Pearl Street, Dallas, Texas 75201-2272:

1. Testamentary Trust; Catharine Coble Armstrong Jorgensen, individually and as Trustee of the Catharine C. Whittenburg Testamentary Trust; Catharine C. Whittenburg Armstrong, as Trustee of the Catharine C. Whittenburg Testamentary Trust; and Stewart L. Armstrong, individually and as Trustee of The Alice Foultz 2015 Kleberg Bank Stock Trust, The Martin W. Clement II 2015 Kleberg Bank Stock Trust, The Leslie Clement Family Trust 2015 Kleberg Bank Stock Trust, The Henrietta P. C. Hildebrand Trust of 2007 2015 Kleberg Bank Stock Trust, The Ida Clement Steen 2015 Kleberg Bank Stock Trust, The Charles M. Armstrong III 2015 Kleberg Bank Stock Trust, The Stewart L. Armstrong, Jr. 2015 Kleberg Bank Stock Trust, and The Mia Armstrong Brous 2015 Kleberg Bank Stock Trust, all as members of the Armstrong Family Group; to acquire voting shares of Kleberg & Company Bankers, Inc., and thereby indirectly acquire voting shares of Kleberg Bank, N.A., both in Kingsville, Texas.

Board of Governors of the Federal Reserve System, September 17, 2015.
Michael J. Lewandowski,
Associate Secretary of the Board.

[FR Doc. 2015-24036 Filed 9-21-15; 8:45 am]

BILLING CODE 6210-01-P